INTERNATIONAL TRADE COMMISSION

[Investigation No. 731-TA-1012 (Final)]

Certain Frozen Fish Fillets From Vietnam

Determination

On the basis of the record ¹ developed in the subject investigation, the United States International Trade Commission (Commission) determines, pursuant to section 735(b) of the Tariff Act of 1930 (19 U.S.C. 1673d(b)) (the Act), that an industry in the United States is materially injured by reason of imports from Vietnam of certain frozen fish fillets, provided for in subheading 0304.20.60 of the Harmonized Tariff Schedule of the United States, that have been found by the Department of Commerce (Commerce) to be sold in the United States at less than fair value (LTFV). Concurrently, the Commission finds that critical circumstances do not exist with respect to imports of the subject product from Vietnam.

¹ The record is defined in sec. 207.2(f) of the Commission's Rules of Practice and Procedure (19 CFR 207.2(f)).

Background

The Commission instituted this investigation effective June 28, 2002, following receipt of a petition filed with the Commission and Commerce on behalf of the Catfish Farmers of America—a trade association of U.S. catfish farmers and processors—and by individual U.S. catfish processors. The final phase of the investigation was scheduled by the Commission following notification of a preliminary determination by Commerce that imports of the subject product from Vietnam were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of February 12, 2003 (68 FR 7131). The hearing was held in Washington, DC, on June 17, 2003, and all persons who requested the opportunity were permitted to appear in person or by counsel.

The Commission transmitted its determination in this investigation to the Secretary of Commerce on August 6, 2003. The views of the Commission are contained in USITC Publication 3617 (August 2003), entitled Certain Frozen Fish Fillets from Vietnam: Investigation No. 731-TA-1012 (Final).

Issued: August 6, 2003.
By order of the Commission.
Marilyn R. Abbott,
Secretary to the Commission.

[FR Doc. 03-20385 Filed 8-8-03; 8:45 am]

BILLING CODE 7020-02-P